INTERNATIONAL TRADE COMMISSION

[Investigation No. 337-TA-834]

Certain Mobile Electronic Devices Incorporating Haptics; Institution of Investigation Pursuant to 19 U.S.C. 1337

AGENCY: U.S. International Trade Commission.

ACTION: Notice.

SUMMARY: Notice is hereby given that a complaint was filed with the U.S. International Trade Commission on February 7, 2012, and an amended complaint was filed with the U.S. International Trade Commission on March 2, 2012 and a supplement was filed on March 15, 2012, under section 337 of the Tariff Act of 1930, as amended, 19 U.S.C. 1337, on behalf of Immersion Corporation of San Jose, California. The amended complaint alleges violations of section 337 based upon the importation into the United States, the sale for importation, and the sale within the United States after importation of certain mobile electronic devices incorporating haptics by reason of infringement of certain claims of U.S. Patent No. 6,429,846 (“the `846 patent”); U.S. Patent No. 7,592,999 (“the `999 patent”); U.S. Patent No. 7,969,288 (“the `288 patent”); U.S. Patent No. 7,982,720 (“the `720 patent”); U.S. Patent No. 8,031,181 (“the `181 patent”); and U.S. Patent No. 8,059,105 (“the `105 patent”). The amended complaint further alleges that an industry in the United States exists or is in the process of being established as required by subsection (a)(2) of section 337.

The complainant requests that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of the Secretary, Docket Services Division, U.S. International Trade Commission, telephone (202) 205-1802.

Authority: The authority for institution of this investigation is contained in section 337 of the Tariff Act of 1930, as amended, and in section 210.10 of the Commission's Rules of Practice and Procedure, 19 CFR 210.10 (2011).

Scope of Investigation: Having considered the complaint, the U.S. International Trade Commission, on April 2, 2012, ordered that—

(1) Pursuant to subsection (b) of section 337 of the Tariff Act of 1930, as amended, an investigation be instituted to determine whether there is a violation of subsection (a)(1)(B) of section 337 in the importation into the United States, the sale for importation, or the sale within the United States after importation of certain mobile electronic devices incorporating haptics that infringe one or more of claim 5 of the `846 patent; claims 1-3, 6, 8-11, and 13-16 of the `999 patent; claims 18-26 of the `288 patent; claims 1-8, 10-19, 22-25, and 27-33 of the `720 patent; claims 1-3, 5, 6, 8, 9, 11, 13, 15, 17-25, and 27-34 of the `181 patent; and claims 1-5, 7-15, and 18-21 of the `105 patent, and whether an industry in the United States exists as required by subsection (a)(2) of section 337;

(2) For the purpose of the investigation so instituted, the following are hereby named as parties upon which this notice of investigation shall be served:

(a) The complainant is: Immersion Corporation, 30 Rio Robles, San Jose, CA 95134.

(b) The respondents are the following entities alleged to be in violation of section 337, and are the parties upon which the amended complaint is to be served:

Motorola Mobility, Inc., 600 N. U.S. Highway 45, Libertyville, IL 60048.

Motorola Mobility Holdings, Inc., 600 N. U.S. Highway 45, Libertyville, IL 60048.

HTC Corporation, 23 Xinghua Road, Taoyuan, 330 Taiwan.

HTC America, Inc., 13920 SE. Eastgate Way, Suite 400, Bellevue, Washington 98005.

(3) For the investigation so instituted, the Chief Administrative Law Judge, U.S. International Trade Commission, shall designate the presiding Administrative Law Judge; and

(4) The presiding Administrative Law Judge is directed to promptly issue an initial determination amending the notice of investigation upon complainant's request to reflect any changes to the `846 patent resulting from the issuance by the Patent and Trademark Office of a certificate of correction in response to the currently pending correction request.

The Office of Unfair Import Investigations will not participate as a party in this investigation.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

Issued: April 2, 2012.
By order of the Commission.
James R. Holbein,
Secretary to the Commission.

[FR Doc. 2012-8264 Filed 4-5-12; 8:45 am]

BILLING CODE 7020-02-P